FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

A-Logixtic Group, LLC (NVO), 600 Kenrick Drive, Suite C16, Houston, TX 77060, Officers: Naeem Iqbal, Manager/Member (QI), Erika T. Yeguez, Manager/Member, Application Type: New NVO License.

Aero Service Transport, Inc (NVO), 6521 NW. 87th Avenue, Miami, FL 33178, Officers: Jose A. Romero, President (QI), Jesus A. Perez, Director, Application Type: New NVO License.

AFC Worldwide Express, Inc. dba R+L Global Logistics (NVO & OFF), 3511 Naturally Fresh Blvd., Suite 460, Atlanta, GA 30349, Officers: Cheyenne A. Miranda, Vice President of Maritime Operations (QI), Roby L. Roberts, President, Application Type: QI Change.

Allyn International Services, Inc. (OFF), 13391 McGregor Blvd., Fort Myers, FL 33919, Officers: Kevin M. Sotak, Vice President of Ocean Freight (QI), Allen Trevett, CEO (QI), Application Type: QI Change.

Ameroasia Int'l (NVO), 442 Court Street, Elko, NV 89801, Officer: Jun Yin, Member (QI), Application Type: Transfer to Ameroasia Int'l LLC.

Base Ventures International, Inc. dba Base Ventures Shipping (NVO & OFF), 160 1st Street SE., Suite 201, New Brighton, MN 55112, Officers: Oluwaseyi Olawore, President (QI), Novella Olawore, Vice President, Application Type: Transfer to Voyage Logistics Worldwide Inc.

Beagle Shipping Inc (NVO & OFF), 2801 NW 74th Avenue, Suite 107, Miami, FL 33122, Officers: Ricardo Tovar, President/Secretary (QI), Miguel Tovar, Vice President, Application Type: QI Change .

Body Language Shipping & Cargo, Incorporated (OFF), 100 Hoffman Place, Hillside, NJ 07205, Officers: Taofeek Adeleke, CEO (QI), Juliet Akpata, Treasurer, Application Type: New OFF License.

Combined Freight System, Inc. (NVO & OFF), 10725 Springfield Avenue, Suite 1, Santa Fe Springs, CA 90670, Officers: Yang S. Kwon, Secretary (QI), Alex O. Kwon, President, Application Type: Add OFF Service.

Extrans Lax, Inc. (NVO), 19500 South Rancho Way, Suite 109, Rancho Dominguez, CA 90220, Officers: Kyung Min Kim, Vice President (QI), Jaesok Lee, President, Application Type: New NVO License.

Fago International, Inc. (NVO & OFF), 9682 Telstar Avenue, Suite 101, El Monte, CA 91731, Officers: Jiang Xu, Secretary (QI), Zheng Feng, President, Application Type: New NVO & OFF License.

Florida Export Shipping Corp (NVO & OFF), 5404 24th Avenue South, Tampa, FL 33619, Officers: Claudia E. Campbell, President (QI), Gennare Vitelli, Vice President, Application Type: Add NVO Service.

Global Transport System, Inc. (OFF), 4624 NW 74th Avenue, Miami, FL 33166, Officers: Ivonne Cardenas, President (QI), Jose A. Lopez, Vice President, Application Type: New OFF License.

Green Shipping, Inc. (NVO & OFF), 16012 South Western Avenue, Suite 302, Gardena, CA 90247, Officers: Jae Kyung Kim, Secretary (QI), Byung H. Chung, President, Application Type: QI Change.

Harrison Global Freight, Inc. (NVO & OFF), 19895 Harrison Avenue, City of Industry, CA 91789, Officers: Peiqing Zhang, Secretary (QI), Larry X. Li, President, Application Type: New NVO & OFF License.

Hill Brothers Intermodal Logistics, Inc. dba Hill Bros. Logistics (NVO & OFF), 7878 I Street, Omaha, NE 68127, Officers: Susan Christopher, Assistant Secretary (QI), Albert M. Hill, President, Application Type: New NVO & OFF License.

Hitachi Transport System (America), Ltd. (NVO & OFF), 21061 S. Western Avenue, Torrance, CA 90501-1122, Officers: Hidetoshi Sugimura, Vice President (QI), Masataka Kashiwa, President, Application Type: QI Change.

Horizon Lines of Guam, LLC (NVO), 4064 Colony Road, Suite 200, Charlotte, NC 28211, Officers: Noely Hernandez, Secretary (QI), Ricardo F. Rodriguez, President, Application Type: QI Change.

IMC Global Solutions, LLC (NVO & OFF), 3150 Lenox Park Blvd., Suite 309, Memphis, TN 38115, Officers: Faith H. Davis (Scott), Customs Compliance Officer (QI), Mason H. George, President, Application Type: New NVO & OFF License.

International Logistics Alliance, LLC (OFF), 13800 Coppermine Road, Suite 300, Herndon, VA 20171, Officer: Marcy A. Belcher, Member (QI), Application Type: New OFF License.

KFS, Inc. dba Global International (NVO & OFF), 186 Intermodal Parkway, Fort Worth, TX 76177, Officers: Mark Irwin, CEO, CFO (QI), Bruce Galbraith, President, Application Type: QI Change.

KTL USA, LLC dba Daimon Logistics USA (NVO), 17 Hilliard Avenue, Edgewater, NJ 07020, Officers: Victoria A. Landrito, Secretary (QI), Serhat Ozisik, President, Application Type: QI Change.

LCS Logistics Inc (NVO), 10643 Daines Drive, Temple City, CA 91780, Officer: Tianying Ao, President (QI), Application Type: New NVO License.

Logical Logistics International, Ltd. (OFF), 1000 Abernathy Road NE., Suite 1125, Atlanta, GA 30328, Officers: Ragen J. Wilson, Secretary (QI), Alan M. Sheps, President, Application Type: QI Change.

Logistics Trader Limited (NVO), Flat 5 Downham Court, Long Lodge Drive, Walton On Thames, Surrey, KT12 3BZ, United Kingdom, Officers: Kathleen Smith, Secretary (QI), Mimoun Bouazani, President, Application Type: New NVO License.

Mercantile Logistics & International Trade Inc. (NVO & OFF), 170 S. Green Valley Parkway, Suite 300, Henderson, NV 89012, Officers: Kimberly M. Daniels, President (QI), Tina Immormino, Secretary, Application Type: New NVO & OFF License.

Nex Worldwide Express Inc. (NVO), 60 W 39th Street, Suite 3W, New York, NY 10018, Officers: Saban K. Ozcilingir, Vice President (QI), Hakan Ozcilingir, President, Application Type: QI Change.

Paramount Transportation Logistics Services, L.L.C. (NVO & OFF), 7290 College Parkway, Suite 200, Fort Myers, FL 33907, Officers: Alfredo Rodriguez-Medrano, Vice President of Maritime Operations (QI), Ralph L. Roberts, President, Application Type: QI Change.

Puerto Pireo, Corp (NVO & OFF), 6941 Carlyle Avenue, Suite 301, Miami Beach, FL 33141, Officers: Federico M. Rocha, Vice President (QI), Nicolas Stamati, President, Application Type: New NVO & OFF License.

RMT Logistics Inc (NVO), 7425 SW 126th Street, Pinecrest, FL 33156, Officer: Rafael Mejias, President (QI), Application Type: New NVO License.

Shippingmygoods.com, Inc. (NVO & OFF), 3600 Oaks Clubhouse Drive, Suite 210, Pompano Beach, FL 33069, Officer: Jonathan J. Duharte, President (QI), Application Type: New NVO & OFF License.

Silver Hawk Freight Inc. dba Titan Worldwide (NVO & OFF), 14243 E. Don Julian Road, City of Industry, CA 91746, Officers: Robert Penate, Secretary (QI), Amar I. Durrani, President, Application Type: New NVO & OFF License .

Sisto International Shipping, Inc. (NVO & OFF), 10255 NW 116th Way, Suite 3, Medley, FL 33178, Officers: Raymond A. Fleites, President (QI), Tracy Sisto, Vice President, Application Type: Add NVO Service.

TLS Logistics, LLC (NVO), 5358 33rd Avenue NW., Suite 302, Gig Harbor, WA 98335, Officers: William Daniels, Manager (QI), Geraldine Sanders, Chairman, Board of Managers, Application Type: New NVO License.

Topspin Holdings, LLC (NVO & OFF), 225 West 34th Street, 9th Floor, New York, NY 10122, Officers: Vera Fida, Manager (QI), James Minutello, Member, Application Type: New NVO & OFF License.

Uniocean Group LLC (NVO & OFF), 927 S. Azusa Avenue, City of Industry, CA 91748, Officers: Jeffrey Yan, Managing Member (QI), Jie Shi, Managing Member, Application Type: New NVO & OFF License.

VFX Import & Export Group Corp (NVO & OFF), 2315 NE 107th Avenue, 1M34 Box 5, Miami, FL 33172, Officers: Valeria F. Nickerson, President (QI), Marcia R. Darocha, Secretary, Application Type: New NVO & OFF License.

By the Commission.
Dated: January 31, 2014.
Rachel E. Dickon,
Assistant Secretary.

[FR Doc. 2014-02406 Filed 2-4-14; 8:45 am]

BILLING CODE 6730-01-P